DEPARTMENT OF COMMERCE

Economic Development Administration

Meeting of the National Advisory Council on Innovation and Entrepreneurship

AGENCY: Economic Development Administration, U.S. Department of Commerce.

ACTION: Notice of an open meeting.

SUMMARY: The National Advisory Council on Innovation and Entrepreneurship will hold a meeting on Tuesday, Sept 13, 2011. The open meeting will be conducted from 10 a.m. to 12 p.m. (EDT). A limited number of seats are available to members of the public who would like to attend the meeting in person. The public can also dial in to the meeting via a listen-only conference number 888-942-9574, passcode 6315042. The Council was chartered on November 10, 2009, to advise the Secretary of Commerce on matters relating to innovation and entrepreneurship in the United States.

DATES: Sept. 13, 2011.

TIME: 10 a.m.-12 p.m. (EDT).

ADDRESSES: The meeting will be held in Building 101 at the Philadelphia Navy Yard at 4747 South Broad Street, Philadelphia, PA 19112. For in person or audio only participation, please specify any requests for reasonable accommodation of auxiliary aids at least five business days in advance of the meeting. Last minute requests will be accommodated based on capacity limitations.

SUPPLEMENTARY INFORMATION: The purpose of this meeting is to provide a progress report on outcomes related to NACIE's earlier work on access to capital and technology commercialization; update the council on ongoing Administration priorities, including Startup America and the President's Council on Jobs and Competitiveness; and continue work focusing on regional innovation ecosystems, technology commercialization, and high-growth entrepreneurship. The agenda may change to accommodate NACIE business. The final agenda will be posted on the NACIE Web site at http://www.eda.gov/nacie.

Any member of the public may submit pertinent written comments concerning the Council's affairs at any time before and after the meeting. Comments may be submitted to Darryl Scott at the contact information indicated below. Copies of meeting minutes will be available within 90 days of the meeting at http://www.eda.gov/NACIE.

FOR FURTHER INFORMATION CONTACT: Darryl Scott, Office of Innovation and Entrepreneurship, Room 7019, 1401 Constitution Avenue, NW., Washington, DC 20230, telephone: 202-482-3309, e-mail: dscott@eda.doc.gov. Please reference, “NACIE September 13, 2011” in the subject line of your e-mail.

Dated: August 26, 2011.
Paul J. Corson,
Office of Innovation and Entrepreneurship, U.S. Department of Commerce.

[FR Doc. 2011-22404 Filed 8-31-11; 8:45 am]

BILLING CODE 3510-03-P